DEPARTMENT OF TRANSPORTATION

Federal Aviation Administration

14 CFR Part 71

[Docket No. FAA-2012-0749; Airspace Docket No. 11-ANM-29]

RIN 2120-AA66

Revocation of Jet Route J-528; WA

AGENCY: Federal Aviation Administration (FAA), DOT.

ACTION: Final rule.

SUMMARY: This action removes Jet Route J-528 because the route is too short to serve a useful navigation or air traffic control purpose and is causing flight plan rejections in the air traffic control automation system.

DATES: Effective date 0901 UTC, November 15, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

Jet Route J-528 is currently depicted on United States High Altitude En Route Navigation charts as a three-mile long segment that extends between the Whatcom, WA, VORTAC and the United States/Canadian border. J-528 is described in FAA Order 7400.9V as extending from Whatcom, WA, to Williams Lake, BC, Canada, excluding the airspace within Canada. The current FAA air traffic control automation system does not recognize J-528 beyond the Seattle Air Route Traffic Control Center and Vancouver Area Control Center boundary. This results in numerous rejected international flight plans and additional air traffic controller workload. Since J-528 parallels another existing Jet Route, J-534 that originates in U.S. airspace and proceeds to Williams Lake, BC, Canada, removing J-528 will not adversely affect NAS operations. In addition, NavCanada has advised that the designator J-528 is used for a route that exists entirely within Canadian airspace.

The Rule

The FAA is amending Title 14 Code of Federal Regulations (14 CFR) part 71 by removing Jet Route J-528 in Washington state. Due to its short length, the route serves no useful navigation or air traffic control purpose and causes flight plan error problems for the air traffic control automation system. Another Jet Route, J-534, that already exists through the same area, provides routing into Canada; therefore, removing J-528 will not result in any adverse impact to the NAS.

Because this action removes a redundant route segment that does not serve a useful navigation purpose, but causes problems for the air traffic control automation system, I find that notice and public procedures under 5 U.S.C. 553(b) are impractical and contrary to the public interest.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it removes a Jet Route that no longer serves a purpose in the NAS.

Jet routes are published in paragraph 2004 of FAA Order 7400.9V, signed August 9, 2011 and effective September 15, 2011, which is incorporated by reference in 14 CFR 71.1. The jet route listed in this document will be removed subsequently from the Order.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 2004 Jet Routes.

* * * * *

J-528 [Removed]

Issued in Washington, DC, on August 22, 2012.
Gary A. Norek,
Manager, Airspace Policy and ATC Procedures Group.

[FR Doc. 2012-21842 Filed 9-5-12; 8:45 am]

BILLING CODE 4910-13-P